DEPARTMENT OF TRANSPORTATION

Federal Aviation Administration

Commercial Routes for the Grand Canyon National Park

AGENCY: Federal Aviation Administration (FAA), DOT.

ACTION: Notice; delay of effective date.

SUMMARY: On April 4, 2000, the FAA issued a Notice of Availability of commercial routes in the Grand Canyon National Park (GCNP) Special Flight Rules Area (SFRA) setting forth new routes available for GCNP. Additionally, on that same day, the FAA published a final rule modifying the airspace of the SFRA. The new routes and the Airspace Modification final rule are interrelated. Based on safety concerns for air tours in the east end of the GCNPSFRA expressed by air tour operators, the FAA delays the effective date of the route system until the issues in the east end of the GCNP SFRA are resolved. The FAA also publishes in this Federal Register a companion document delaying the effective date for the Airspace Modification final rule.

DATES: The Notice of availability for Commercial Routes for the Grand Canyon National Park was issued on March 28, 2000, and published in the Federal Register on April 4, 2000 (65 FR 17698). It was scheduled to become effective on December 1, 2000 and delayed until December 28, 2000. The FAA is further delaying implementation of the routes until the issues are resolved.

FOR FURTHER INFORMATION CONTACT: Howard Nesbitt, Flight Standards Service, (AFS-200), Federal Aviation Administration, Seventh and Maryland Streets, SW., Washington, DC 20591; Telephone: (202) 493-4981.

SUPPLEMENTARY INFORMATION:

Background

On April 4, 2000, the Federal Aviation Administration published two final rules, the Modification of the Dimensions of the Grand Canyon National Park Special Flight Rules Area and Flight Free Zones (Air Space Modification), and the Commercial Air Tour Limitation in the Grand Canyon National Park Special Flight Rules Area (Commercial Air Tour Limitation). See 65 FR 17736; 65 FR 17708; April 4, 2000. The FAA also simultaneously published a notice of availability of Commercial Routes for the Grand Canyon National Park (Routes Notice). See 65 FR 17698, April 4, 2000. The Commercial Air Tour Limitations final rule became effective on May 4, 2000. The Air Space Modification final rule and the routes set forth in the Routes Notice were scheduled to become effective December 1, 2000. The effective date of the Air Space Modification final rule and the new routes was delayed to provide the air tour operators ample opportunity to train on the new route system during the non-tour season. The Final Supplemental Environmental Assessment for Special Flight Rules in the Vicinity of Grand Canyon National Park (SEA) was completed on February 22, 2000, and the Finding of No Significant Impact was issued on February 25, 2000.

On May 8, 2000, The United States Air Tour Association and seven air tour operators (hereinafter collectively referred to as the Air Tour Providers) filed a petition for review of the two final rules before the United States Court of Appeals for the District of Columbia Circuit. This petition did not cover the Routes Notice. The FAA, The Department of Transportation, the Department of Interior, the National Park Service and various federal officials were named as respondents in this action. On May 30, 2000, the Air Tour Providers filed a motion for stay pending review before the Court of Appeals. The federal respondents in this case filed a motion for summary denial on grounds that petitioners had not exhausted their administrative remedies. The Court granted the federal respondents summary denial on July 19, 2000. The Grand Canyon Trust, the National Parks and Conservation Association, the Sierra Club, the Wilderness Society, Friends of the Grand Canyon and Grand Canyon River Guides, Inc. (The Trust) filed a petition for review of the same rules on May 22, 2000. The Court, by motion of the federal respondents, consolidated that case with that of the Air Tour Providers. The Hualapai Indian Tribe of Arizona filed a motion to intervene in the Air Tour Providers petition for review on June 23, 2000. The Court granted that motion on July 19, 2000.

On July 31, 2000, the Air Tour Providers filed a motion for stay before the FAA. Both the Hualapai Indian Tribe and the Trust filed oppositions to the Air Tour Providers' stay motion. On October 11, 2000, (65 FR 60352) the FAA published a disposition of the stay request, denying the stay. On October 25, 2000, the Air Tour Providers filed a Motion for Stay and Emergency Relief Pending Review of an Agency Order with the Court of Appeals. The federal respondents filed their Opposition to Petitioner's Motion for Stay Pending Review and Notification of Administrative Stay of Route and Airspace Rules on November 2, 2000. The FAA stayed the routes and airspace until December 28, 2000 so that it could investigate further some new safety allegations raised by the Air Tour Providers during the course of the litigation. The FAA has analyzed these safety issues and has determined that further modifications are necessary in order to address some safety problems identified by the Air Tour Providers.

Agency Action

The Air Tour Providers' Motion, filed October 25, 2000, raised some specific safety allegations about the routes in the Dragon Corridor (Green Route 2 and 2R), Zuni Point Corridor (Green 1; Black 1) and east of the Desert View Flight Free Zone (Black 2 and Green 3). These safety issues were not previously understood by the FAA. The FAA has now had the opportunity to conduct an initial investigation of the east end route structure and has determined that there likely are some improvements that can be made to address concerns raised by the Air Tour Operators. Thus, the FAA is delaying the effective date of the new routes until the issues on the east end of the GCNP SFRA are resolved. The FAA intends the routes to be implemented by or before April 1, 2001. Elsewhere in this Federal Register, the FAA also is delaying the effective date of the airspace changes adopted in the April 4, 2000 final rule.

The FAA notes that if the issues on the east end cannot be resolved by April 1, 2001, the FAA may implement the routes on the west end of the GCNP SFRA (Blue Direct North, Blue Direct South, Green 4, Blue 2 and Brown routes) while maintaining the SFAR 50-2 route structure on the east end. The goal for a partial implementation also is spring 2001.

Dated: Issued in Washington, DC on December 22, 2000.
Jane F. Garvey,
Administrator.

[FR Doc. 00-33291 Filed 12-28-00; 4:08 pm]

BILLING CODE 4910-13-M